DEPARTMENT OF ENERGY

Federal Energy Regulatory Commission

Combined Notice of Filings #1

Take notice that the Commission received the following electric corporate filings:

Docket Numbers: EC12-2-000.

Applicants: Covanta Energy Corporation.

Description: Covanta Union, Inc. Application for Authority to Transfer Jurisdictional Facilities and Request for Expedited Consideration and Waiver.

Filed Date: 10/07/2011.

Accession Number: 20111007-5106.

Comment Date: 5 p.m. Eastern Time on Friday, October 28, 2011.

Docket Numbers: EC12-3-000.

Applicants: Epsom Investment Pte Ltd., Arlington Valley, LLC, Griffith Energy LLC.

Description: Joint Application for Transaction Approval Pursuant to FPA—203 and Request for Expedited Action of Epsom Investment Pte Ltd, Arlington Valley, LLC, and Griffith Energy LLC.

Filed Date: 10/07/2011.

Accession Number: 20111007-5109.

Comment Date: 5 p.m. Eastern Time on Friday, October 28, 2011.

Docket Numbers: EC12-4-000.

Applicants: Thermo Cogeneration Partnership, LP, Stargen CO ILP, L.L.C., Stargen CO IGP, L.L.C.

Description: Application for Authorization under Federal Power Act Section 203 of Thermo Cogeneration Partnership, L.P., et al.

Filed Date: 10/07/2011.

Accession Number: 20111007-5186.

Comment Date: 5 p.m. Eastern Time on Friday, October 28, 2011.

Take notice that the Commission received the following exempt wholesale generator filings:

Docket Numbers: EG12-2-000.

Applicants: Windpower Partners 1993, L.P.

Description: Notice of Self-Certification of Exempt Wholesale Generator Status of Windpower Partners 1993, L.P.

Filed Date: 10/07/2011.

Accession Number: 20111007-5150.

Comment Date: 5 p.m. Eastern Time on Friday, October 28, 2011.

Take notice that the Commission received the following electric rate filings:

Docket Numbers: ER10-2651-002.

Applicants: Lockhart Power Company.

Description: Lockhart Power Company submits tariff filing per 35: Revisions to Lockhart MBR Tariff to be effective 10/11/2011.

Filed Date: 10/11/2011.

Accession Number: 20111011-5005.

Comment Date: 5 p.m. Eastern Time on Tuesday, November 1, 2011.

Docket Numbers: ER10-3069-002.

Applicants: Alcoa Power Generating Inc.

Description: Alcoa Power Generating Inc. submits tariff filing per 35: APGI Revisions to MBR Tariff—Seller Category to be effective 10/12/2011.

Filed Date: 10/11/2011.

Accession Number: 20111011-5117.

Comment Date: 5 p.m. Eastern Time on Tuesday, November 1, 2011.

Docket Numbers: ER10-3070-002.

Applicants: Alcoa Power Marketing LLC.

Description: Alcoa Power Marketing LLC submits tariff filing per 35: APM Revisions to MBR Tariff—Seller Category to be effective 10/12/2011.

Filed Date: 10/11/2011.

Accession Number: 20111011-5120.

Comment Date: 5 p.m. Eastern Time on Tuesday, November 1, 2011.

Docket Numbers: ER11-4475-002.

Applicants: Rockland Wind Farm LLC.

Description: Rockland Wind Farm LLC submits tariff filing per 35.17(b): Rockland Wind Farm LLC—Second Amendment to be effective 10/7/2011.

Filed Date: 10/07/2011.

Accession Number: 20111007-5161.

Comment Date: 5 p.m. Eastern Time on Monday, October 24, 2011.

Docket Numbers: ER11-4475-003.

Applicants: Rockland Wind Farm LLC.

Description: Rockland Wind Farm LLC submits tariff filing per 35.17(b): Amendment to Rate Schedule to be effective 10/11/2011.

Filed Date: 10/11/2011.

Accession Number: 20111011-5151.

Comment Date: 5 p.m. Eastern Time on Wednesday, October 26, 2011.

Docket Numbers: ER11-4527-001.

Applicants: Record Hill Wind LLC.

Description: Record Hill Wind LLC submits tariff filing per 35.17(b): Amendment to Market-Based Rate Application Under Docket ER11-4527 to be effective 10/5/2011.

Filed Date: 10/11/2011.

Accession Number: 20111011-5118.

Comment Date: 5 p.m. Eastern Time on Tuesday, November 1, 2011.

Docket Numbers: ER11-4555-001.

Applicants: ONEOK Energy Services Company, L.P.

Description: ONEOK Energy Services Company, L.P. submits tariff filing per 35: ONEOK Energy Services Amendment to Order 697 Compliance Filing of MBR Tariff to be effective 9/16/2011.

Filed Date: 10/07/2011.

Accession Number: 20111007-5148.

Comment Date: 5 p.m. Eastern Time on Friday, October 28, 2011.

Docket Numbers: ER11-4636-001.

Applicants: Portland General Electric Company.

Description: Portland General Electric Company submits tariff filing per 35.17(b): Colstrip Project Transmission Agreement—Clone to be effective 1/1/2012.

Filed Date: 10/11/2011.

Accession Number: 20111011-5000.

Comment Date: 5 p.m. Eastern Time on Tuesday, November 1, 2011.

Docket Numbers: ER11-4686-001.

Applicants: Goldfinch Capital Management, LP.

Description: Goldfinch Capital Management, LP submits tariff filing per 35: Revised Baseline Filing of Goldfinch Capital to be effective 10/7/2011.

Filed Date: 10/07/2011.

Accession Number: 20111007-5033.

Comment Date: 5 p.m. Eastern Time on Friday, October 28, 2011.

Docket Numbers: ER11-4718-001.

Applicants: Gateway Energy Marketing.

Description: Gateway Energy Marketing submits tariff filing per 35: Gateway Market-Based Rate Revised Baseline Filing to be effective 10/7/2011.

Filed Date: 10/07/2011.

Accession Number: 20111007-5031.

Comment Date: 5 p.m. Eastern Time on Friday, October 28, 2011.

Docket Numbers: ER12-45-000.

Applicants: Alabama Power Company.

Description: Alabama Power Company submits tariff filing per 35.13(a)(2)(iii): PowerSouth NITSA Amendment to Add Hewett Delivery Point to be effective 3/16/2012.

Filed Date: 10/07/2011.

Accession Number: 20111007-5061.

Comment Date: 5 p.m. Eastern Time on Friday, October 28, 2011.

Docket Numbers: ER12-46-000.

Applicants: Florida Power & Light Company.

Description: Florida Power & Light Company submits tariff filing per 35.13(a)(2)(iii): FPL OATT Attachment P to be effective 12/6/2011.

Filed Date: 10/07/2011.

Accession Number: 20111007-5088.

Comment Date: 5 p.m. Eastern Time on Friday, October 28, 2011.

Docket Numbers: ER12-47-000.

Applicants: Celerity Energy Partners San Diego LLC.

Description: Celerity Energy Partners San Diego LLC submits tariff filing per 35.37: Celerity Triennial and Category Status Filing to be effective 10/8/2011.

Filed Date: 10/07/2011.

Accession Number: 20111007-5134.

Comment Date: 5 p.m. Eastern Time on Friday, October 28, 2011.

Docket Numbers: ER12-48-000.

Applicants: New York Independent System Operator, Inc.

Description: New York Independent System Operator, Inc. submits tariff filing per 35.13(a)(2)(iii): LGIA among NYISO, LIPA, and Long Island Solar Farm to be effective 10/5/2011.

Filed Date: 10/07/2011.

Accession Number: 20111007-5149.

Comment Date: 5 p.m. Eastern Time on Friday, October 28, 2011.

Docket Numbers: ER12-49-000.

Applicants: Citigroup Energy Inc.

Description: Citigroup Energy Inc. submits tariff filing per 35.13(a)(2)(iii): CEI MBR Tariff with MISO Ancillary Services to be effective 10/8/2011.

Filed Date: 10/07/2011.

Accession Number: 20111007-5162.

Comment Date: 5 p.m. Eastern Time on Friday, October 28, 2011.

Docket Numbers: ER12-50-000.

Applicants: California Independent System Operator Corporation.

Description: California Independent System Operator Corporation submits tariff filing per 35.13(a)(2)(iii): 2011-10-07 CAISO Flexible Ramping Constraint Amendment to be effective 12/13/2011.

Filed Date: 10/07/2011.

Accession Number: 20111007-5163.

Comment Date: 5 p.m. Eastern Time on Friday, October 28, 2011.

Docket Numbers: ER12-51-000.

Applicants: Citigroup Energy Canada ULC.

Description: Citigroup Energy Canada ULC submits tariff filing per 35.13(a)(2)(iii): CECU MBR Tariff adding MISO Ancillary Servs to be effective 10/8/2011.

Filed Date: 10/07/2011.

Accession Number: 20111007-5164.

Comment Date: 5 p.m. Eastern Time on Friday, October 28, 2011.

Docket Numbers: ER12-52-000.

Applicants: Windpower Partners 1993, L.P.

Description: Windpower Partners 1993, L.P. submits tariff filing per 35.12: Windpower Partners 1993, L.P. Market-Based Rate Tariff to be effective 10/8/2011.

Filed Date: 10/07/2011.

Accession Number: 20111007-5165.

Comment Date: 5 p.m. Eastern Time on Friday, October 28, 2011.

Docket Numbers: ER12-53-000.

Applicants: Torofino Trading LLC.

Description: Torofino Trading LLC submits tariff filing per 35.1: FERC Electric Tariff No.1 to be effective 10/13/2009.

Filed Date: 10/11/2011.

Accession Number: 20111011-5003.

Comment Date: 5 p.m. Eastern Time on Tuesday, November 1, 2011.

Docket Numbers: ER12-55-000.

Applicants: Pacific Gas and Electric Company.

Description: Notices of Termination of CalPeak Vaca Dixon and Panoche Service Agreement Nos. 39 and 43 under Pacific Gas and Electric Company FERC Electric Tariff Volume No. 5.

Filed Date: 10/11/2011.

Accession Number: 20111011-5107.

Comment Date: 5 p.m. Eastern Time on Tuesday, November 01, 2011.

Docket Numbers: ER12-56-000.

Applicants: Midwest Independent Transmission System Operator, Inc.

Description: Midwest Independent Transmission System Operator, Inc. submits tariff filing per 35.13(a)(2)(iii): 10-11-11 Attachment X Clean-Up to be effective 12/11/2011.

Filed Date: 10/11/2011.

Accession Number: 20111011-5150.

Comment Date: 5 p.m. Eastern Time on Tuesday, November 01, 2011.

Take notice that the Commission received the following electric securities filings:

Docket Numbers: ES11-40-000.

Applicants: Entergy Services, Inc., Entergy Arkansas Inc., Entergy Gulf States Louisiana, L.L.C., Entergy Louisiana, LLC, Entergy Mississippi, Inc., Entergy New Orleans, Inc., Entergy Texas, Inc, System Energy Resources, Inc.

Description: Supplemental Information of Entergy Services, Inc., et al.

Filed Date: 10/07/2011.

Accession Number: 20111007-5193.

Comment Date: 5 p.m. Eastern Time on Monday, October 17, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2011.
Nathaniel J. Davis, Sr.,
Deputy Secretary.

[FR Doc. 2011-26981 Filed 10-18-11; 8:45 am]

BILLING CODE 6717-01-P